DEPARTMENT OF LABOR

Employment and Training Administration

[TA-W-51,395 and TA-W-51,395A]

Lexington Home Brands, Plants 1, 2, 4, 5, & 12, Lexington, North Carolina; Lexington Home Brands, Plant 98 (Main Office), Lexington, North Carolina; Amended Certification Regarding Eligibility To Apply for Worker Adjustment Assistance

In accordance with section 223 of the Trade Act of 1974 (19 U.S.C. 2273) the Department of Labor issued a Notice of Certification Regarding Eligibility to Apply for Worker Adjustment Assistance on April 24, 2003, applicable to workers of Lexington Home Brands, Plants 1, 2, 4, 5 & 12, Lexington, North Carolina. The notice was published in the Federal Register on May 9, 2003 (68 FR 25060).

At the request of the company, the Department reviewed the certification for workers of the subject firm. The workers are engaged in the production of wooden household furniture.

The company reports that worker separations occurred at the Plant 98 (Main Office), Lexington, North Carolina location of the subject firm. Workers at Plant 98 (Main Office) provide administrative, sales, and technical services for the subject firm's production plants located throughout North Carolina.

Based on these findings, the Department is amending the certification to include workers of Lexington Home Brands, Plant 98 (Main Office), Lexington, North Carolina.

The intent of the Department's certification is to include all workers of Lexington Home Brands who were adversely affected by increased imports.

The amended notice applicable to TA-W-51,395 is hereby issued as follows:

All workers of Lexington Home Brands, Plants 1, 2, 4, 5 & 12, Lexington, North Carolina (TA-W-51,395), and Lexington Home Brands, Plant 98 (Main Office), Lexington, North Carolina (TA-W-51,395A) who became totally or partially separated from employment on or after March 31, 2002, through April 24, 2005, are eligible to apply for adjustment assistance under Section 223 of the Trade Act of 1974.

Signed at Washington, DC, this 28th day of May 2003.
Richard Church,
Certifying Officer, Division of Trade Adjustment Assistance.

[FR Doc. 03-15868 Filed 6-23-03; 8:45 am]

BILLING CODE 4510-30-P